NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at title 45, part 670 of the Code of Federal Regulations. This is the required notice of permit applications received.

DATES: Interested parties are invited to submit written data, comments, or views with respect to this permit application by November 1, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Yu-Ping Chin, Department of Geological Sciences, Ohio State University, 275 Mendenhall Laboratory, 125 South Oval Mall, Columbus, OH 43210-1308.

Permit Application No. 2011-018.

Activity for Which Permit Is Requested

Enter Antarctic Specially Protected Areas. The applicant plans to center Cape Royds (ASPA 121) and Backdoor Bay, Cape Royds (ASPA 157) to access Pony Lake to collect water samples. Samples were collected previously from the lake and the microbially derived Dissolved Organic Matter (DOM) from this site is now a reference fulvic acid distributed by the International Humic Substances Society (IHSS). The applicant plans to collect more DOM samples for the purpose of comparing their Cotton Glacier samples to Pony Lake DOM.

Location

Cape Royds (ASPA 121) and Backdoor Bay, Cape Royds (ASPA 157).

Dates

January 1, 2011 to January 31, 2011.

Nadene G. Kennedy,
Permit Officer, Office of Polar Programs.

[FR Doc. 2010-24638 Filed 9-30-10; 8:45 am]

BILLING CODE 7555-01-P